AGENCY FOR INTERNATIONAL DEVELOPMENT

Agency Information Collection Activities; Submission to the Office of Management and Budget for Review and Approval; Comment Request; Information Collection Generic Clearance Request for USAID Workforce and Organizational Surveys

AGENCY: Agency for International Development (USAID).

ACTION: Notice of Information Collection; request for comment.

SUMMARY: USAID proposes a generic clearance to collect feedback and conduct research, monitoring and evaluations of programs and policies through surveys, interviews, and focus groups to understand effectiveness of programs and policies and to discern how programs are affected by crises and other unexpected changes in context. This will help the Agency make better decisions to improve the effectiveness of programs and achieve development and foreign assistance objectives through activities pursuant to Foreign Assistance Act, including under rapidly changing conditions. This will also help safeguard U.S. National Security interests and ensure accountability to U.S. taxpayers. Information collected from USAID partners, stakeholders and program participants is a valuable resource to ensure the Agency programs and operations remain safe, relevant, efficient and effective.

DATES: All comments should be submitted within 60 calendar days from the date of this publication.

ADDRESSES: Comments submitted in response to this notice should be submitted to Email: eroen@usaid.gov.

FOR FURTHER INFORMATION CONTACT: Elizabeth Roen, USAID Bureau for Planning, Learning and Resource Management, telephone 202-712-1493, or via email at eroen@usaid.gov.

SUPPLEMENTARY INFORMATION: In accordance with the Paperwork Reduction Act of 1995 (PRA) (44 U.S.C. 3506(c)(2)(A)), USAID is providing the general public and Federal agencies with an opportunity to comment on the proposed collection of information. USAID is requesting a general clearance to collect feedback and conduct research, monitoring and evaluations of programs and policies through surveys, interviews, and focus groups to understand effectiveness of programs and policies and to discern how programs are affected by crises and other unexpected changes in context. USAID conducts programs outside of the United States and will collect data from approximately 450,000 respondents per year, made up primarily of foreign nationals participating in USAID programs, other stakeholders local to the programs, and federal contractors and grantees implementing the programs. The collection of personally identifiable information will be kept to the minimum. The total estimated number of annual burden hours is 225,000 hours.

OMB Control Number: TBD.

Elizabeth Roen,
Deputy Director, Office of Learning, Evaluation and Research.

[FR Doc. 2024-12478 Filed 6-6-24; 8:45 am]

BILLING CODE 6116-01-P